NATIONAL AERONAUTICS AND SPACE ADMINISTRATION

[Notice 04-014]

Government-Owned Inventions, Available for Licensing

AGENCY: National Aeronautics and Space Administration.

ACTION: Notice of availability of inventions for licensing.

SUMMARY: The invention listed below is assigned to the National Aeronautics and Space Administration, has been filed in the United States Patent and Trademark office, and is available for licensing.

DATES: January 29, 2004.

FOR FURTHER INFORMATION CONTACT: Edward K. Fein, Patent Counsel, Johnson Space Center, Mail Code HA, Houston, TX 77058-8452; telephone (281) 483-4871; fax (281) 244-8452.

NASA Case No. MSC-23436-1: Deployable Antenna.

Dated: January 21, 2004.
Robert M. Stephens,
Deputy General Counsel.

[FR Doc. 04-1849 Filed 1-28-04; 8:45 am]

BILLING CODE 7510-01-P